DEPARTMENT OF ENERGY

Federal Energy Regulatory Commission

[Project No. 3442-026]

Mine Falls Limited Partnership; City of Nashua; Notice of Application for Transfer of License and Soliciting Comments, Motions To Intervene, and Protests

On November 4, 2016, Mine Falls Limited Partnership, co-licensee (transferor) and City of Nashua, co-licensee (transferor) filed an application to partially transfer the license for the Mine Falls Project No. 3442. The project is located on the Nashua River in Hillsborough County, New Hampshire. The project does not occupy Federal lands.

The applicants seek Commission approval to transfer the license for the Mine Falls Project from Mine Falls Limited Partnership and City of Nashua as co-licensees to City of Nashua as the sole licensee.

Applicants Contact: For transferor: Mr. Bernard H. Cherry, Mine Falls Limited Partnership, c/o Eagle Creek Renewable Energy, LLC, 65 Madison Avenue, Morristown, NJ 07960, Phone: 973-998-8400, Email: bud.cherry@eaglecreekre.com and Mr. Donald H. Clarke and Mr. Joshua E. Adrian, Duncan, Weinberg, Genzer & Pembroke, P.C., 1615 M Street NW., Suite 800, Washington, DC 20036, Phone: 202-467-6370, Emails: dhc@dwgp.com and jea@dwgp.com. For transferor/transferee: Mr. James Donchess, Mayor, City of Nashua, 229 Main Street, Nashua, NH 03060, Phone: 603-589-3260, Email: NashuaMayor@NashuaNH.gov and Ms. Madeleine Mineau, Waterways Manager, City of Nashua, 229 Main Street, P.O. Box 2019, Nashua, NH 03060, Phone: 603-589-3092, Email: mineaum@nashuanh.gov.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-3442-026.

Dated: November 16, 2016.
Kimberly D. Bose,
Secretary.

[FR Doc. 2016-28166 Filed 11-22-16; 8:45 am]

BILLING CODE 6717-01-P